NUCLEAR REGULATORY COMMISSION

[NRC-2012-0179]

Relationship Between General Design Criteria and Technical Specification Operability

AGENCY: Nuclear Regulatory Commission.

ACTION: Regulatory issue summary; issuance.

SUMMARY: The U.S. Nuclear Regulatory Commission (NRC) is issuing Regulatory Issue Summary (RIS) 2013-05, “NRC Position on the Relationship Between General Design Criteria and Technical Specification Operability.” This RIS clarifies the NRC staff's position on the relationship between the general design criteria (GDC) for nuclear power plants and technical specification operability. In addition, the RIS clarifies the process for addressing any structure, system, or component nonconforming condition with GDC as incorporated into a plant's current licensing basis.

ADDRESSES: Please refer to Docket ID NRC-2012-0179 when contacting the NRC about the availability of information regarding this document. You may access information related to this document, which the NRC possesses and is publicly available, using any of the following methods:

• Federal Rulemaking Web site: Go to http://www.regulations.gov and search for Docket ID NRC-2012-0179. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The RIS is available electronically in ADAMS under Accession No. ML13056A077 and on the NRC's public Web site at http://www.nrc.gov/reading-rm/doc-collections/gen-comm/reg-issues/ (select RIS 2013-05).

• NRC's PDR: You may examine and purchase copies of public documents at the NRC's PDR, Room O1-F21, One White Flint North, 11555 Rockville Pike, Rockville, Maryland 20852.

FOR FURTHER INFORMATION CONTACT: Thomas Alexion, Office of Nuclear Reactor Regulation, U.S. Nuclear Regulatory Commission, Washington, DC 20555-0001; telephone: 301-415-1326; email: Thomas.Alexion@nrc.gov.

SUPPLEMENTARY INFORMATION: The NRC published a notice of opportunity for public comment on this RIS in the Federal Register (77 FR 45282) on July 31, 2012. The agency received comments from two commenters.

The staff considered all comments which resulted in some changes to the RIS, and its evaluation of these comments and the resulting changes to the RIS are discussed in a publicly available memorandum which is in ADAMS under Accession No. ML13085A189.

Dated at Rockville, Maryland, this 24th day of May, 2013.
For the Nuclear Regulatory Commission.
Eric E. Bowman,
Acting Chief, Generic Communications Branch, Division of Policy and Rulemaking, Office of Nuclear Reactor Regulation.

[FR Doc. 2013-13352 Filed 6-4-13; 8:45 am]

BILLING CODE 7590-01-P